DEPARTMENT OF TRANSPORTATION

Federal Aviation Administration

14 CFR Part 39

[Docket No. FAA-2015-0491; Directorate Identifier 2015-NM-019-AD; Amendment 39-18117; AD 2015-05-07]

RIN 2120-AA64

Airworthiness Directives; Bombardier, Inc. Airplanes

AGENCY: Federal Aviation Administration (FAA), Department of Transportation (DOT).

ACTION: Final rule; request for comments.

SUMMARY: We are superseding Airworthiness Directive (AD) 2015-02-06 for certain Bombardier, Inc. Model CL-600-2B16 (CL-604 Variant) airplanes. AD 2015-02-06 required a revision to the airplane flight manual, a revision to the maintenance or inspection program, as applicable, and replacement of horizontal stabilizer trim actuators (HSTAs) having certain part numbers. This new AD continues to require those actions and corrects certain typographical errors. This AD was prompted by the discovery of three typographical errors in AD 2015-02-06. We are issuing this AD to detect and correct loose spur gear bolts on the HSTA, which, if combined with the failure of the primary load path, could lead to failure of the HSTA and subsequent loss of the airplane.

DATES: This AD becomes effective March 16, 2015.

The Director of the Federal Register approved the incorporation by reference of certain publications listed in this AD as of March 6, 2015 (80 FR 5017, January 30, 2015).

We must receive comments on this AD by April 30, 2015

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

• For service information identified in this AD, contact Bombardier, Inc., 400 Côte Vertu Road West, Dorval, Québec H4S 1Y9, Canada; telephone 514-855-5000; fax 514-855-7401; email thd.crj@aero.bombardier.com; Internet http://www.bombardier.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-0491; or in person at the Docket Operations office between 9 a.m. and 5 p.m., Monday through Friday, except Federal holidays. The AD docket contains this AD, the regulatory evaluation, any comments received, and other information. The street address for the Docket Operations office (telephone 800-647-5527) is in the ADDRESSES section. Comments will be available in the AD docket shortly after receipt.

FOR FURTHER INFORMATION CONTACT: Ricardo Garcia, Aerospace Engineer, Airframe and Propulsion Branch, ANE-171, FAA, New York Aircraft Certification Office, 1600 Stewart Avenue, Suite 410, Westbury, NY 11590; telephone 516-228-7331; fax 516-794-5531.

SUPPLEMENTARY INFORMATION:

Discussion

On January 11, 2015, we issued AD 2015-02-06, Amendment 39-18073 (80 FR 5017, January 30, 2015). AD 2015-02-06 applied to certain Bombardier, Inc. Model CL-600-2B16 (CL-604 Variant) airplanes. AD 2015-02-06 was prompted by reports of loose, broken, or backed-out spur gear bolts on the HSTA. AD 2015-02-06 required a revision to the airplane flight manual, a revision to the maintenance or inspection program, as applicable, and replacement of HSTAs having certain part numbers. We issued AD 2015-02-06 to detect and correct loose spur gear bolts on the HSTA, which, if combined with the failure of the primary load path, could lead to failure of the HSTA and subsequent loss of the airplane.

Since we issued AD 2015-02-06, Amendment 39-18073 (80 FR 5017, January 30, 2015), three typographical errors were discovered in AD 2015-02-06.

As published, a digit was missing from the engineer's phone number in the FOR FURTHER INFORMATION CONTACT section of the preamble of AD 2015-02-06, Amendment 39-18073 (80 FR 5017, January 30, 2015). The correct phone number is “516-228-7331.”

As published, the AD number of AD 2015-02-06, Amendment 39-18073 (80 FR 5017, January 30, 2015), appears as “2014-02-06” in the Product Identification line of the regulatory text of the AD. The correct AD number is “2015-02-06.” The AD number is referenced correctly throughout the remainder of that document.

As published, a vendor part number in paragraph (j) of AD 2015-02-06, Amendment 39-18073 (80 FR 5017, January 30, 2015), was incorrectly identified as “845401.” The correct vendor part number is “8454-1.”

Since this new AD replaces AD 2015-02-06, Amendment 39-18073 (80 FR 5017, January 30, 2015), there are no additional changes in this new AD.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

FAA's Determination of the Effective Date

An unsafe condition exists that requires the immediate adoption of this AD. The FAA has found that the risk to the flying public justifies waiving notice and comment prior to adoption of this rule because of the urgency to correct the part number and AD number errors to avoid non-compliance. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2015-0491; Directorate Identifier 2015-NM-019-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 125 airplanes of U.S. registry.

The actions required by AD 2015-02-06, Amendment 39-18073 (80 FR 5017, January 30, 2015), and retained in this AD take about 21 work-hours per product, at an average labor rate of $85 per work-hour. Required parts cost about $0 per product. Based on these figures, the estimated cost of the actions that are required by AD 2015-02-06 is $1,785 per product.

The new requirements of this AD add no additional economic burden.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2015-02-06, Amendment 39-18073 (80 FR 5017, January 30, 2015), and adding the following new AD:

2015-05-07 Bombardier, Inc.: Amendment 39-18117. Docket No. FAA-2015-0491; Directorate Identifier 2015-NM-019-AD.

(a) Effective Date

This AD becomes effective March 16, 2015.

(b) Affected ADs

This AD replaces AD 2015-02-06, Amendment 39-18073 (80 FR 5017, January 30, 2015).

(c) Applicability

This AD applies to Bombardier, Inc. Model CL-600-2B16 (CL-604 Variant) airplanes, certificated in any category, serial numbers 5301 and subsequent, equipped with horizontal stabilizer trim actuator (HSTA) part number (P/N) 604-92305-3 (vendor P/N 8454-1) or P/N 604-92305-5 (vendor P/N 8454-2).

(d) Subject

Air Transport Association (ATA) of America Code 27, Flight Controls.

(e) Reason

This AD was prompted by the discovery of three typographical errors in AD 2015-02-06. We are issuing this AD to detect and correct loose spur gear bolts on the HSTA, which, if combined with the failure of the primary load path, could lead to failure of the HSTA and subsequent loss of the airplane.

(f) Compliance

Comply with this AD within the compliance times specified, unless already done.

(g) Retained Airplane Flight Manual (AFM) Revision, With No Changes

This paragraph restates the requirements of paragraph (g) of AD 2015-02-06, Amendment 39-18073 (80 FR 5017, January 30, 2015), with no changes. Within 30 days after March 6, 2015 (the effective date of AD 2015-02-06: Revise the Normal Procedures section of the applicable Bombardier AFM to include the information in the applicable temporary revision (TR) specified in paragraph (g)(1) or (g)(2) of this AD. The TRs introduce revised procedures for the stabilizer trim system check. Operate the airplane according to the limitations and procedures in the applicable TR. The revision may be done by inserting a copy of the applicable TR specified in paragraph (g)(1) or (g)(2) of this AD into the AFM. When the TR has been included in the general revisions of the AFM, the general revisions may be inserted into the AFM, provided the relevant information in the general revision is identical to that in the applicable TR, and the TR may be removed.

(1) Bombardier Temporary Revision (TR) 604/37, dated May 21, 2013, to the Bombardier Challenger CL-604 Airplane Flight Manual, PSP 604-1.

(2) Bombardier TR 605/18, dated May 21, 2013, to the Bombardier Challenger CL-605 Airplane Flight Manual, PSP 605-1.

(h) Retained Maintenance or Inspection Program Revision, With No Changes

This paragraph restates the requirements of paragraph (h) of AD 2015-02-06, Amendment 39-18073 (80 FR 5017, January 30, 2015), with no changes. Within 30 days after March 6, 2015 (the effective date of AD 2015-02-06): Revise the maintenance or inspection program, as applicable, by incorporating procedures for an Operational Test (BITE) of the Horizontal Stabilizer Trim Controls System (HSTCS), in accordance with a method approved by the Manager, New York Aircraft Certification Office (ACO), ANE-170, FAA; or Transport Canada Civil Aviation (TCCA); or Bombardier, Inc.'s TCCA Design Approval Organization (DAO). The initial compliance time for the operational test is within 100 flight hours after March 6, 2015 (the effective date of AD 2015-02-06).

Note 1 to paragraph (h) of this AD: Bombardier Task 27-41-00-101, Operational Test (BITE) of the Horizontal Stabilizer Trim Controls System (HSTCS), provides guidance for the operational test specified in paragraph (h) of this AD. Bombardier Task 27-41-00-101 is included in the Bombardier Challenger 604 Time Limits/Maintenance Checks (TLMC) Manual; and in the Bombardier Challenger 605 TLMC Manual.

(i) Retained No Alternative Actions or Intervals, With No Changes

This paragraph restates the requirements of paragraph (i) of AD 2015-02-06, Amendment 39-18073 (80 FR 5017, January 30, 2015), with no changes. After the maintenance or inspection program has been revised, as required by paragraph (h) of this AD, no alternative actions (e.g., inspections) or intervals may be used unless the actions or intervals are approved as an alternative method of compliance (AMOC) in accordance with the procedures specified in paragraph (m)(1) of this AD.

(j) Retained HSTA Replacement, With Corrected Vendor Part Number

This paragraph restates the requirements of paragraph (j) of AD 2015-02-06, Amendment 39-18073 (80 FR 5017, January 30, 2015), with a corrected vendor part number. For airplanes equipped with a HSTA having P/N 604-92305-3 (vendor P/N 8454-1) or P/N 604-92305-5 (vendor P/N 8454-2): Within 3,000 flight hours or 26 months after March 6, 2015 (the effective date of AD 2015-02-06), whichever occurs first, replace any HSTA having P/N 604-92305-3 (vendor P/N 8454-1) or P/N 604-92305-5 (vendor P/N 8454-2) with a HSTA having P/N 604-92305-7 (vendor P/N 8454-3), in accordance with the Accomplishment Instructions of Bombardier Service Bulletin 604-27-032, Revision 02, dated April 22, 2014; or Bombardier Service Bulletin 605-27-002, Revision 02, dated April 22, 2014; as applicable.

(k) Retained Credit for Previous Actions, With No Changes

This paragraph restates the requirements of paragraph (k) of AD 2015-02-06, Amendment 39-18073 (80 FR 5017, January 30, 2015), with no changes. This paragraph provides credit for the actions required by paragraph (j) of this AD if those actions were performed before March 6, 2015 (the effective date of AD 2015-02-06) using the service information identified in paragraphs (k)(1) through (k)(4) of this AD, as applicable. This service information is not incorporated by reference in this AD.

(1) Bombardier Service Bulletin 604-27-032, dated September 10, 2012.

(2) Bombardier Service Bulletin 604-27-032, Revision 01, dated April 29, 2013.

(3) Bombardier Service Bulletin 605-27-002, dated September 10, 2012.

(4) Bombardier Service Bulletin 605-27-002, Revision 01, April 29, 2013.

(l) Retained Parts Installation Prohibition, With No Changes

This paragraph restates the requirements of paragraph (l) of AD 2015-02-06, Amendment 39-18073 (80 FR 5017, January 30, 2015), with no changes. As of March 6, 2015 (the effective date of AD 2015-02-06), no person may install any HSTA having P/N 604-92305-3 (vendor P/N 8454-1) or 604-92305-5 (vendor P/N 8454-2) on any airplane.

(m) Other FAA AD Provisions

The following provisions also apply to this AD:

(1) Alternative Methods of Compliance (AMOCs): The Manager, New York ACO, ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, NY 11590; telephone 516-228-7300; fax 516-794-5531. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, New York ACO, ANE-170; or TCCA; or Bombardier, Inc.'s TCCA DAO. If approved by the DAO, the approval must include the DAO-authorized signature.

(n) Related Information

(1) Refer to Mandatory Continuing Airworthiness Information (MCAI) Canadian Airworthiness Directive CF-2013-18 dated July 16, 2013, for related information. This MCAI may be found in the AD docket on the Internet at http://www.regulations.gov by searching for and locating Docket No. FAA-2015-0491.

(2) Service information identified in this AD that is not incorporated by reference is available at the addresses specified in paragraphs (o)(4) and (o)(5) of this AD.

(o) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on March 6, 2015 (80 FR 5017, January 30, 2015).

(i) Bombardier Service Bulletin 604-27-032, Revision 02, dated April 22, 2014.

(ii) Bombardier Service Bulletin 605-27-002, Revision 02, dated April 22, 2014.

(iii) Bombardier Temporary Revision 604/37, dated May 21, 2013, to the Bombardier Challenger CL-604 Airplane Flight Manual, PSP 604-1.

(iv) Bombardier Temporary Revision 605/18, dated May 21, 2013, to the Bombardier Challenger CL-605 Airplane Flight Manual, PSP 605-1.

(4) For service information identified in this AD, contact Bombardier, Inc., 400 Côte Vertu Road West, Dorval, Québec H4S 1Y9, Canada; telephone 514-855-5000; fax 514-855-7401; email thd.crj@aero.bombardier.com; Internet http://www.bombardier.com.

(5) You may view this service information at the FAA, Transport Airplane Directorate, 1601 Lind Avenue SW., Renton, WA. For information on the availability of this material at the FAA, call 425-227-1221.

(6) You may view this service information that is incorporated by reference at the National Archives and Records Administration (NARA). For information on the availability of this material at NARA, call 202-741-6030, or go to: http://www.archives.gov/federal-register/cfr/ibr-locations.html.

Issued in Renton, Washington, on March 5, 2015.
Jeffrey E. Duven,
Manager, Transport Airplane Directorate, Aircraft Certification Service.

[FR Doc. 2015-05735 Filed 3-13-15; 8:45 am]

BILLING CODE 4910-13-P